DEPARTMENT OF ENERGY

Federal Energy Regulatory Commission

[Docket Nos. ER08-637-000; ER08-637-001; ER08-637-004; ER08-637-005]

Midwest Independent Transmission System Operator, Inc.; Notice of Technical Conference

October 29, 2008.

As announced in the Notice of Technical Conference issued on September 9, 2008, and discussed further in the Commission's October 10 Order in the above-captioned proceedings,¹ the Commission will hold a technical conference on November 12, 2008 in the Commission Meeting Room of the Federal Energy Regulatory Commission, 888 First Street, NE., Washington, DC, regarding the proposed Market Coordination Service (Market Service) provisions set forth in Midwest Independent Transmission System Operator Inc.'s (Midwest ISO) Western Markets Proposal. The technical conference will be held from 9 a.m. to 4 p.m. (ET).

¹ Midwest Indep. Transmission Sys. Operator, Inc., 125 FERC ¶ 61,029 (2008).

This supplemental notice provides additional information including an agenda for the conference and the speakers at the conference.² The conference is open to the public to attend, and registration is not required.

² See Attachment to this Notice.

Transcripts of the conference will be immediately available from Ace Reporting Company (202-347-3700 or 800-336-6646) for a fee. The transcripts will also be available for the public on the Commission's eLibrary system ten calendar days after the Commission receives the transcript.

A free webcast of the Policy Session during the morning of the technical conference will be available through http://www.ferc.gov. Anyone with Internet access who desires to view this event can do so by navigating to http://www.ferc.gov's Calendar of Events and locating this event in the Calendar. The event will contain a link to its webcast. The Capitol Connection provides technical support for the free webcasts. The Capitol Connection also offers access to this event via television in the DC area and via phone bridge for a fee. If you have any questions, visit http://www.CapitolConnection.org or call 703-993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

For more information about this conference, please contact: Fernando Rodriguez at 202-502-8231 or at fernando.rodriguez@ferc.gov.

Kimberly D. Bose,
Secretary.

Technical Conference Agenda ³

November 12, 2008

³ This agenda may change. The Commission will issue a further notice of such changes if time permits.

I. Welcome and Opening Remarks—9 a.m.-9:30 a.m.

II. Policy Session—9:30 a.m.-11:30 a.m.

During this session, panelists will be asked to address broad policy issues associated with Market Service, such as Midwest ISO's reasons for making the proposal, the associated benefits, the concerns such as whether the proposal would destabilize Midwest ISO and the extent to which the proposal is consistent with Order No. 2000.

Panelists—9:30 a.m.-10:10 a.m.⁴

⁴ Time assumes approximately 5 minutes per panelist.

• Graham Edwards, CEO, and Clair Moeller, Vice President of Transmission Asset Management, appearing on behalf of Midwest ISO.

• Paul Jett, Director of RTO Activities, Duke Energy Corporation, Chair of Midwest ISO Transmission Owners Committee, on behalf of Midwest ISO Transmission Owners.

• William Fehrman, President & CEO, MidAmerican Energy Company.

• Lloyd Linke, Manager of Power System Operations, Western Area Power Administration and Mike Risan, Senior Vice President of Transmission, Basin Electric Power Cooperative.

• Honorable John Norris, Chairman Iowa Utilities Board and President of Organization of Midwest ISO States (OMS) and Bill Smith, Director, OMS.

• Ray Wahle, Director of Power Supply and Operations, Missouri River Energy Services on behalf of Midwest TDUs.

• Steven Naumann, Vice President of Wholesale Market Development, Exelon Corporation.

• Doug Collins, Executive Director, ITC Midwest.

• Donald Furman, Senior Vice President for Development, Transmission and Policy, Iberdrola Renewables, Incoming President American Wind Energy Association.

Discussion and Questions—10:10 a.m.-10:30 a.m.

Break—10:30 a.m.-10:40 a.m.

Further Discussion and Questions—10:40 a.m.-11:30 a.m.

Lunch—11:30 p.m.-1 p.m.

III. Technical Session—1 p.m.-4 p.m.

Staff Introduction—1 p.m.-1:05 p.m.

Presentations on MITS and MITS-Comparable Service—1:05 p.m.-1:25 p.m.

• Clair Moeller, Vice President of Transmission Asset Management, Midwest ISO.

• Dennis Kramer, Regulatory Specialist, Ameren Services Company, on behalf of Midwest ISO Transmission Owners.

• Darrel R. Gunst, Manager Transmission Services, MidAmerican Energy Company.

• OMS Representative.

Staff-led Discussion and Questions—1:25 p.m.-2 p.m.

Questions from Other Parties—2 p.m.-2:30 p.m.

Break—2:30 p.m.-2:45 p.m.

Transmission Planning and Other Issues—2:45 p.m.-3:45 p.m.

Staff-led Discussion and Questions—2:45 p.m.-3:15 p.m.

Questions from Other Parties—3:15 p.m.-3:45 p.m.

Next Steps—3:45 p.m.-4 p.m.

[FR Doc. E8-26254 Filed 11-3-08; 8:45 am]

BILLING CODE 6717-01-P